DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of 6 individuals and 7 entities that have been placed on OFAC's Specially Designated Nationals and Blocked Persons List based on OFAC's determination that one or more applicable legal criteria were satisfied. All property and interests in property subject to U.S. jurisdiction of these persons and these entities are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action

On February 2, 2018, OFAC determined that the property and interests in property subject to U.S. jurisdiction of the following persons and entities are blocked under the relevant sanctions authority listed below.

Individuals

1. ASSAF, Nabil Mahmoud (a.k.a. ASSAF, Nabil; a.k.a. ASSAF, Nabil Muhammad), Lebanon; DOB 11 Sep 1964; POB Beirut, Lebanon; Additional Sanctions Information—Subject to Secondary Sanctions Pursuant to the Hizballah Financial Sanctions Regulations; Gender Male (individual) [SDGT] (Linked To: AL-INMAA ENGINEERING AND CONTRACTING).

Designated pursuant to section 1(c) of Executive Order 13224 of September 23, 2001, “Blocking Property and Prohibiting Transactions With Persons Who Commit, Threaten to Commit, or Support Terrorism” (E.O. 13224) for acting for or on behalf of AL-INMAA ENGINEERING AND CONTRACTING, an entity determined to be subject to E.O. 13224.

2. BADR-AL-DIN, Muhammad (a.k.a. BADREDDINE, Mohamed; a.k.a. BADREDDINE, Mohammed), Iraq; DOB 12 Oct 1958; POB El Ghbayr 5, Lebanon; Additional Sanctions Information—Subject to Secondary Sanctions Pursuant to the Hizballah Financial Sanctions Regulations; Gender Male (individual) [SDGT] (Linked To: AL-INMAA ENGINEERING AND CONTRACTING).

Designated pursuant to section 1(c) of Executive Order 13224 of September 23, 2001, “Blocking Property and Prohibiting Transactions With Persons Who Commit, Threaten to Commit, or Support Terrorism” (E.O. 13224) for acting for or on behalf of AL-INMAA ENGINEERING AND CONTRACTING, an entity determined to be subject to E.O. 13224.

3. QANSU, Jihad Muhammad (a.k.a. KANSO, Jehad; a.k.a. KANSO, Jehad Mohamed; a.k.a. KANSO, Jihad; a.k.a. KANSO, Jihad Mohamad; a.k.a. KANSOU, Jihad; a.k.a. KANSOU, Jihad Mohamad; a.k.a. KANSU, Jehad; a.k.a. QANSAWH, Jehad; a.k.a. QANSO, Jehad; a.k.a. QANSU, Jihad), Jinah-Hafez Al Asad Street, Abedah Building-1st Floor, Beirut, Lebanon; Hafez Al Assaad Street, Abadi Building, 1st Floor, Jnah, Baabda, Lebanon; Hafez Al Assaad Street, Ebadi Building, 1st Floor, Jnah, Baabda, Lebanon; DOB 10 Feb 1966; Additional Sanctions Information—Subject to Secondary Sanctions Pursuant to the Hizballah Financial Sanctions Regulations; Gender Male; Passport RL2647015 (Lebanon); alt. Passport 127298342 (Venezuela) (individual) [SDGT] (Linked To: AL-INMAA ENGINEERING AND CONTRACTING).

Designated pursuant to section 1(c) of Executive Order 13224 of September 23, 2001, “Blocking Property and Prohibiting Transactions With Persons Who Commit, Threaten to Commit, or Support Terrorism” (E.O. 13224) for acting for or on behalf of AL-INMAA ENGINEERING AND CONTRACTING, an entity determined to be subject to E.O. 13224.

4. QANSU, Ali Muhammad (a.k.a. KANSO, Ali Mohamed; a.k.a. KANSOU, Ali Mohamed; a.k.a. QANSU, Ali), Hafez Al Assaad Street, Abadi Building, 1st Floor, Jnah, Baabda, Lebanon; Hafez Al Assaad Street, Ebadi Building, 1st Floor, Jnah, Baabda, Lebanon; 5 Guma Valley Drive, Spur Road, Freetown, Sierra Leone; Haret Hreik, Lebanon; DOB 01 Oct 1967; POB Beirut, Lebanon; Additional Sanctions Information—Subject to Secondary Sanctions Pursuant to the Hizballah Financial Sanctions Regulations; Gender Male; Passport RL3504023 (Lebanon); alt. Passport RL 522139 (Lebanon) (individual) [SDGT] (Linked To: TABAJA, Adham Husayn).

Designated pursuant to section 1(c) of Executive Order 13224 of September 23, 2001, “Blocking Property and Prohibiting Transactions With Persons Who Commit, Threaten to Commit, or Support Terrorism” (E.O. 13224) for acting for or on behalf of TABAJA, Adham Husayn, an individual determined to be subject to E.O. 13224.

5. SAAD, Issam Ahmad (a.k.a. SAAD, Isam Ahmad; a.k.a. SAD, Isam Ahmad), Lebanon; DOB 19 Oct 1964; POB Bent Jbayl, Lebanon; Additional Sanctions Information—Subject to Secondary Sanctions Pursuant to the Hizballah Financial Sanctions Regulations; Gender Male; Passport LR0191548 (Lebanon) (individual) [SDGT] (Linked To: AL-INMAA ENGINEERING AND CONTRACTING).

Designated pursuant to section 1(c) of Executive Order 13224 of September 23, 2001, “Blocking Property and Prohibiting Transactions With Persons Who Commit, Threaten to Commit, or Support Terrorism” (E.O. 13224) for acting for or on behalf of AL-INMAA ENGINEERING AND CONTRACTING, an entity determined to be subject to E.O. 13224.

6. SAAD, Abdul Latif (a.k.a. SAD, Abd-al-Latif), Iraq; DOB 10 Aug 1958; POB Bent Jbayl, Lebanon; Additional Sanctions Information—Subject to Secondary Sanctions Pursuant to the Hizballah Financial Sanctions Regulations; Gender Male (individual) [SDGT] (Linked To: AL-INMAA ENGINEERING AND CONTRACTING).

Designated pursuant to section 1(c) of Executive Order 13224 of September 23, 2001, “Blocking Property and Prohibiting Transactions With Persons Who Commit, Threaten to Commit, or Support Terrorism” (E.O. 13224) for acting for or on behalf of AL-INMAA ENGINEERING AND CONTRACTING, an entity determined to be subject to E.O. 13224.

Entities

1. BLUE LAGOON GROUP LTD. (f.k.a. BLUE LAGOON ALI KANSO GROUP (S.L.) LIMITED; a.k.a. BLUE LAGOON ALI KANSO GROUP LTD.; a.k.a. BLUE LAGOON GROUP), 65 Siaka Stevens Street, Freetown, Sierra Leone; Additional Sanctions Information—Subject to Secondary Sanctions Pursuant to the Hizballah Financial Sanctions Regulations; Tax ID No. 1060463-3 (Sierra Leone) [SDGT] (Linked To: QANSU, ALI MUHAMMAD).

Designated pursuant to section 1(c) of Executive Order 13224 of September 23, 2001, “Blocking Property and Prohibiting Transactions With Persons Who Commit, Threaten to Commit, or Support Terrorism” (E.O. 13224) for being owned or controlled by QANSU, ALI MUHAMMAD, an individual determined to be subject to E.O. 13224.

2. DOLPHIN TRADING COMPANY LIMITED, Bob Taylor Road, Paynesville, Monrovia, Liberia; Additional Sanctions Information—Subject to Secondary Sanctions Pursuant to the Hizballah Financial Sanctions Regulations [SDGT] (Linked To: QANSU, ALI MUHAMMAD).

Designated pursuant to section 1(c) of Executive Order 13224 of September 23, 2001, “Blocking Property and Prohibiting Transactions With Persons Who Commit, Threaten to Commit, or Support Terrorism” (E.O. 13224) for being owned or controlled by QANSU, ALI MUHAMMAD, an individual determined to be subject to E.O. 13224.

3. GOLDEN FISH LIBERIA LTD., 2nd Street Sinkor, Logan Town, Montserrado County, Monrovia, Liberia; Additional Sanctions Information—Subject to Secondary Sanctions Pursuant to the Hizballah Financial Sanctions Regulations [SDGT] (Linked To: QANSU, ALI MUHAMMAD).

Designated pursuant to section 1(c) of Executive Order 13224 of September 23, 2001, “Blocking Property and Prohibiting Transactions With Persons Who Commit, Threaten to Commit, or Support Terrorism” (E.O. 13224) for being owned or controlled by QANSU, ALI MUHAMMAD, an individual determined to be subject to E.O. 13224.

4. GOLDEN FISH S.A.L. (OFFSHORE), Tayuni Tower No. 1251, Section 30- 3rd floor, Chath Tayuni, Lebanon; Additional Sanctions Information—Subject to Secondary Sanctions Pursuant to the Hizballah Financial Sanctions Regulations [SDGT] (Linked To: QANSU, ALI MUHAMMAD).

Designated pursuant to section 1(c) of Executive Order 13224 of September 23, 2001, “Blocking Property and Prohibiting Transactions With Persons Who Commit, Threaten to Commit, or Support Terrorism” (E.O. 13224) for being owned or controlled by QANSU, ALI MUHAMMAD, an individual determined to be subject to E.O. 13224.

5. KANSO FISHING AGENCY LIMITED, Kissy Dockyard, Freetown, Sierra Leone; Additional Sanctions Information—Subject to Secondary Sanctions Pursuant to the Hizballah Financial Sanctions Regulations [SDGT] (Linked To: QANSU, ALI MUHAMMAD).

Designated pursuant to section 1(c) of Executive Order 13224 of September 23, 2001, “Blocking Property and Prohibiting Transactions With Persons Who Commit, Threaten to Commit, or Support Terrorism” (E.O. 13224) for being owned or controlled by QANSU, ALI MUHAMMAD, an individual determined to be subject to E.O. 13224.

6. SKY TRADE COMPANY, Logan Town, Opposite Rice Store, Monrovia, Liberia; Additional Sanctions Information—Subject to Secondary Sanctions Pursuant to the Hizballah Financial Sanctions Regulations [SDGT] (Linked To: QANSU, ALI MUHAMMAD).

Designated pursuant to section 1(c) of Executive Order 13224 of September 23, 2001, “Blocking Property and Prohibiting Transactions With Persons Who Commit, Threaten to Commit, or Support Terrorism” (E.O. 13224) for being owned or controlled by QANSU, ALI MUHAMMAD, an individual determined to be subject to E.O. 13224.

7. STAR TRADE GHANA LIMITED, Enyado HSE, Tema Harbour, (0537N 00001W), Tema, Ghana; Additional Sanctions Information—Subject to Secondary Sanctions Pursuant to the Hizballah Financial Sanctions Regulations [SDGT] (Linked To: QANSU, ALI MUHAMMAD).

Designated pursuant to section 1(c) of Executive Order 13224 of September 23, 2001, “Blocking Property and Prohibiting Transactions With Persons Who Commit, Threaten to Commit, or Support Terrorism” (E.O. 13224) for being owned or controlled by QANSU, ALI MUHAMMAD, an individual determined to be subject to E.O. 13224.

Dated: February 2, 2018.
John E. Smith,
Director, Office of Foreign Assets Control.

[FR Doc. 2018-02453 Filed 2-6-18; 8:45 am]

BILLING CODE 4810-AL-P